SECURITIES AND EXCHANGE COMMISSION

[Release No. 34-96476; File No. SR-MRX-2022-20]

Self-Regulatory Organizations; Nasdaq MRX, LLC; Notice of Withdrawal of Proposed Rule Change To Amend Options 7, Section 6 To Add Port Fees

December 12, 2022.

On October 11, 2022, Nasdaq MRX, LLC (“MRX”) filed with the Securities and Exchange Commission (“Commission”), pursuant to Section 19(b)(1) of the Securities Exchange Act of 1934 ¹ and Rule 19b-4 thereunder,² a proposed rule change to assess port fees. The proposed rule change was published for comment in the Federal Register on October 18, 2022.³

¹ 15 U.S.C. 78s(b)(1).

² 17 CFR 240.19b-4.

³ See Securities Exchange Act Release No. 96046 (October 12, 2022), 87 FR 63119.

On December 8, 2022, MRX withdrew the proposed rule change (SR-MRX-2022-20).

For the Commission, by the Division of Trading and Markets, pursuant to delegated authority.⁴
⁴ 17 CFR 200.30-3(a)(12).
Sherry R. Haywood,
Assistant Secretary.

[FR Doc. 2022-27256 Filed 12-15-22; 8:45 am]

BILLING CODE 8011-01-P